DEPARTMENT OF VETERANS AFFAIRS

Privacy Act of 1974; System of Records

AGENCY: Veterans Health Administration (VHA), Department of Veterans Affairs (VA).

ACTION: Rescindment of a system of records notice.

SUMMARY: VA is rescinding a system of records entitled, “All Employee Survey-VA” (160VA10A2) as set forth in the Federal Register. This system was used for applied managerial as well as scientific statistical analysis of employee satisfaction on quality and quantity of work, personal safety, promotion and training opportunity, fair and equitable treatment, and work/family balance.

DATES: The system was discontinued on September 1, 2012. Comments on this rescinded system of records must be received no later than 30 days after date of publication in the Federal Register. If no public comment is received during the period allowed for comment or unless otherwise published in the Federal Register by VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “All Employee Survey-VA” (160VA10A2). Comments received will be available at regulations.gov for public viewing, inspection or copies.

FOR FURTHER INFORMATION CONTACT: Stephania Griffin, Veterans Health Administration (VHA) Chief Privacy Officer, Department of Veterans Affairs, 810 Vermont Avenue NW, Washington, DC 20420; Stephania.Griffin@va.gov, telephone (704) 245-2492 (Note: this is not a toll-free number).

SUPPLEMENTARY INFORMATION: Categories of individuals covered by the system were all VA employees. Records were maintained on the server with a backup copy on compact disk in the VHA National Center for Organization Development (NCOD) Program Office, 11500 Northlake Drive, Suite 260, Cincinnati, OH 45249.

This system of records notice is being rescinded since the All Employee Survey (AES) system does not use personal identifiers that can be connected to individuals. The de-identified, completely anonymized version of the older AES data is retained on the NCOD server behind the VA firewall. These versions will be retained indefinitely given their archival value as sources of establishing historical trends of VA employee perceptions, if needed or requested by VA leadership. Currently, the new vendor and system for AES does not use individual identifiers. Both the older AES system as well as the newer AES system do not use identifiers for individuals. Survey responses can not be used to identify specific individuals; therefore, a system of records is not required. Since there is no records retention schedule for any AES records, AES records will continue to be maintained indefinitely until scheduled.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on May 31, 2023 for publication.

Dated: June 2, 2023.
Amy L. Rose,
Program Analyst, VA Privacy Service, Office of Information Security, Office of Information and Technology, Department of Veterans Affairs.

SYSTEM NAME AND NUMBER:

“All Employee Survey-VA” 160VA10A2.

HISTORY:

75 FR 3787 (January 22, 2010) and 78 FR 36035 (June 14, 2013).

[FR Doc. 2023-12140 Filed 6-6-23; 8:45 am]

BILLING CODE P